DEPARTMENT OF ENERGY

Federal Energy Regulatory Commission

[Project No. 4108-019]

City of St. Cloud, Minnesota; Notice of Reasonable Period of Time for Water Quality Certification Application

On June 26, 2025, City of St. Cloud, Minnesota (St. Cloud) submitted to the Federal Energy Regulatory Commission (Commission) notice from the Minnesota Pollution Control Agency (Minnesota PCA) that Minnesota PCA received a request for a Clean Water Act section 401(a)(1) water quality certification as defined in 40 CFR 121.5, from St. Cloud, in conjunction with the above captioned project on June 20, 2025. Pursuant to the Commission's regulations,¹ we hereby notify Minnesota PCA of the following:

¹ 18 CFR 5.23(b)(2).

Date of Receipt of the Certification Request: June 20, 2025.

Reasonable Period of Time to Act on the Certification Request: One year, June 20, 2026.

If Minnesota PCA fails or refuses to act on the water quality certification request on or before the above date, then the certifying authority is deemed waived pursuant to section 401(a)(1) of the Clean Water Act, 33 U.S.C. 1341(a)(1).

Dated: July 8, 2025.
Debbie-Anne A. Reese,
Secretary.

[FR Doc. 2025-13027 Filed 7-10-25; 8:45 am]

BILLING CODE 6717-01-P